DEPARTMENT OF HEALTH AND HUMAN SERVICES

Office of Inspector General

General Compliance Program Guidance; Industry Segment-Specific Compliance Program Guidance for Skilled Nursing Facilities and Nursing Facilities; Resources for Industry; Availability

AGENCY: Office of Inspector General (OIG), Department of Health and Human Services (HHS).

ACTION: Notice of availability.

SUMMARY: OIG is announcing the availability of the following resources for industry: General Compliance Program Guidance (GCPG) and Industry Segment-Specific Compliance Program Guidance for Skilled Nursing Facilities and Nursing Facilities (Nursing Facility ICPG).

ADDRESSES: You may submit written electronic comments on these resources at any time by emailing Compliance@oig.hhs.gov.

FOR FURTHER INFORMATION CONTACT:

GCPG: Contact Amanda Copsey, (202) 577-6982, or Laura Ellis, (202) 834-1665.

Nursing Facility ICPG: Contact Laura Morgan, (240) 930-2425, or Felicia Heimer, (202) 770-7017.

SUPPLEMENTARY INFORMATION:

I. Background

On April 24, 2023, OIG announced ¹ its plans to improve and update existing OIG Compliance Program Guidance documents (CPGs) and to deliver new CPGs specific to segments of the health care industry and entities involved in the health care industry that have emerged in recent years.

¹ Modernization of Compliance Program Guidance Documents, 88 FR 25000 (Apr. 25, 2023).

Our April 2023 announcement explained, in part, that:

• OIG developed CPGs as voluntary, nonbinding guidance documents to encourage the development and use of internal controls to monitor adherence to applicable statutes, regulations, and program requirements.

• OIG will no longer publish updated or new CPGs in the Federal Register. All current, updated, and new CPGs will be available on our website.²

² All CPGs issued to date are currently available on the Compliance Guidance page of our website at https://oig.hhs.gov/compliance/compliance-guidance/ (last visited Nov. 15, 2024).

• OIG has developed a new format for CPGs:

○ First, the GCPG pertains to all individuals and entities involved in the health care industry.

○ Second, industry segment-specific CPGs (ICPGs) pertain to different types of providers, suppliers, and other participants in health care industry subsectors or ancillary industry sectors relating to Federal health care programs.

Please reference the April 2023 announcement for additional details.

II. Notice of Availability

Through this Notice of Availability, OIG is announcing the availability of the following documents:

• GCPG: This document was published on OIG's website on November 6, 2023. OIG notified the public of the publication of the GCPG using our public listserv ³ and other communications platforms. The GCPG may be viewed and downloaded at https://oig.hhs.gov/compliance/general-compliance-program-guidance/ and https://oig.hhs.gov/documents/compliance-guidance/1135/HHS-OIG-GCPG-2023.pdf.

³ To join OIG's listserv, visit https://cloud.connect.hhs.gov/OIG/.

• Nursing Facility ICPG: This document was published on OIG's website on November 20, 2024. OIG is notifying the public of the publication of the Nursing Facility ICPG using our public listserv and other communications platforms. The Nursing Facility ICPG may be viewed and downloaded at https://oig.hhs.gov/compliance/nursing-facility-icpg and https://oig.hhs.gov/documents/compliance/10038/nursing-facility-icpg.pdf.

These resources are not one-size-fits-all, comprehensive, or all-inclusive of compliance and quality considerations or risks. They are not binding on any individual or entity. Of note, OIG uses the word “should” in the GCPG and Nursing Facility ICPG to present voluntary, nonbinding guidance. This means that the documents do not create any new obligations or standards for any individual or entity.

OIG may update the GCPG and Nursing Facility ICPG periodically to address newly identified risk areas and compliance and quality measures, ensure timely and meaningful OIG resources, and respond to stakeholder feedback. In addition, OIG anticipates publishing additional ICPGs addressing other health care industry segments in the future.

OIG welcomes written and specific feedback from the health care community and other stakeholders in connection with the GCPG and the Nursing Facility ICPG. Any such feedback can be submitted by email to Compliance@oig.hhs.gov. The receipt of any feedback does not obligate OIG to take action, including responding to the feedback, making the feedback public, or issuing or revising public guidance.

III. Paperwork Reduction Act of 1995

These resources contain no collection of information. Therefore, clearance by the Office of Management and Budget under the Paperwork Reduction Act of 1995 is not required.

Christi A. Grimm,
Inspector General.

[FR Doc. 2024-28019 Filed 11-27-24; 8:45 am]

BILLING CODE 4152-01-P